DEPARTMENT OF THE INTERIOR

[CA-169-1220-AL]

Carrizo Plain National Monument Advisory Committee—Notice of Renewal

AGENCY: Bureau of Land Management, Interior.

ACTION: Notice of Renewal of the Carrizo Plain National Monument Advisory Committee.

SUMMARY: This notice is published in accordance with Section 9(a)(2) of the Federal Advisory Committee Act of 1972 (Pub. L. 92-463). Notice is hereby given that the Secretary of the Interior has renewed the Bureau of Land Management's Carrizo Plain National Monument Advisory Committee.

The purpose of the Committee is to advise the Secretary with respect to the preparation and implementation of the Carrizo Plain National Monument Management Plan.

FOR FURTHER INFORMATION CONTACT: Douglas Herrema, National Landscape Conservation System and Community Partnerships (WO-170), Bureau of Land Management, 1849 C Street, NW., Room 5618, Washington, DC 20240, telephone (202) 208-3516.

Certification Statement

I hereby certify that the renewal of the Carrizo Plain National Monument Advisory Committee is necessary and in the public interest in connection with the Secretary of the Interior's responsibilities to manage the lands, resources, and facilities administered by the Bureau of Land Management.

Dated: July 14, 2008.
Dirk Kempthorne,
Secretary of the Interior.

[FR Doc. E8-17473 Filed 7-30-08; 8:45 am]

BILLING CODE 4310-40-M